DEPARTMENT OF THE INTERIOR

Bureau of Land Management

[20X 1109AF LLUTP00000 L16100000.DR0000.LXSSJ0640000]

Notice of Availability of the Records of Decision and Approved Resource Management Plans for the Grand Staircase-Escalante National Monument and Kanab-Escalante Planning Area

AGENCY: Bureau of Land Management, Interior.

ACTION: Notice of availability.

SUMMARY: The Bureau of Land Management (BLM) Paria River District Office announces the availability of the Records of Decision (RODs) for the Approved Resource Management Plans (RMPs) for the Grand Staircase, Kaiparowits, and Escalante Canyons units of the Grand Staircase-Escalante National Monument (GSENM) and the Federal lands excluded from the GSENM by Proclamation 9682, now identified as the Kanab-Escalante Planning Area (KEPA). The Department of the Interior (DOI) Acting Assistant Secretary, Land and Minerals Management, Casey Hammond, signed the RODs on January 31, 2020, which constituted the final decision of the DOI and made the Approved RMPs and two implementation-level route designations in GSENM effective immediately. The GSENM RMPs replace the GSENM Monument Management Plan (MMP) from 2000 for public lands within the GSENM boundary. The KEPA RMP replaces the 2000 GSENM MMP for public lands excluded from the monument boundary by Proclamation 9682.

ADDRESSES: The RODs are available on the BLM ePlanning project website at https://go.usa.gov/xVCGJ. Click the “Documents & Reports” link on the left side of the screen to find the electronic versions of these materials. Hard copies of the RODs are available for public inspection at the Kanab Visitor Center, 74 East Highway 89, Kanab, Utah 84741.

FOR FURTHER INFORMATION CONTACT: Harry Barber, Paria River District Manager, 669 S Hwy. 89A, Kanab, Utah 84741, phone (435) 644-1200 or email BLM_UT_PRD@blm.gov. Persons who use a telecommunications device for the deaf may call the Federal Relay Service (FRS) at 1-800-877-8339 to leave a message or question for the above individual. The FRS is available 24 hours a day, seven days a week. Replies are provided during normal business hours.

SUPPLEMENTARY INFORMATION: In conjunction with cooperating agencies, and using input provided by the public, stakeholder groups, State and local government entities, American Indian Tribes, and the Utah Resource Advisory Council, the BLM developed the Approved RMPs for the GSENM and the KEPA.

The GSENM includes three units: The 209,993-acre Grand Staircase Unit, the 551,034-acre Kaiparowits Unit, and the 242,836-acre Escalante Canyons Unit. The BLM's Approved RMPs for the Grand Staircase, Kaiparowits, and Escalante Canyons units of the GSENM identify goals, objectives, and management actions necessary for the proper care and management of the objects and values identified in Proclamation 6920, as modified by Proclamation 9682, while allowing for other appropriate uses, such as the ongoing management of recreation, grazing, and scientific research.

The KEPA encompasses 861,974 acres of public lands. The Approved RMP for the KEPA manages those lands for multiple use and sustained yield, including resource protection, consistent with the Federal Land Policy and Management Act of 1976 (Pub. L. 94-579), as amended. This plan allows for the future consideration of mineral leasing and development, balances off-highway vehicle travel with other resource uses, and makes public lands available for grazing while protecting natural and heritage resources.

The BLM, along with cooperating agencies, prepared an Environmental Impact Statement (EIS) in accordance with the National Environmental Policy Act for the GSENM and KEPA RMPs to analyze the direct, indirect, and cumulative environmental impacts associated with the proposed action and the alternatives.

In the future, the National Park Service (NPS), who cooperated with the BLM on preparation of the NEPA analysis, may adopt the EIS and prepare a separate decision related to livestock grazing for lands within the Glen Canyon National Recreation Area that are administered by the NPS. The RODs and Approved RMPs do not change management for the Glen Canyon National Recreation Area.

The BLM consulted with the U.S. Fish and Wildlife Service (USFWS) to meet the requirements of Section 7 of the Endangered Species Act (ESA). The USFWS issued a Biological Opinion on November 1, 2019 that determined that the Approved RMPs are not likely to jeopardize the continued existence of the species consulted on and are not likely to destroy or adversely modify designated critical habitat.

The BLM also consulted with the Utah State Historic Preservation Office (SHPO) to meet the requirements of Section 106 consultation under the National Historic Preservation Act (NHPA). The SHPO concurred with BLM's finding of no adverse effect to cultural resources, as outlined in a letter dated September 6, 2019.

The formal public scoping process for the RMPs and EIS began on January 16, 2018, with the publication of a Notice of Intent in the Federal Register (83 FR 2181). The Notice of Availability (NOA) for the Draft RMPs/EIS was published on August 17, 2018, and initiated a 90-day public comment period. A revised document was released and a Notice of Error was published in the Federal Register on August 31, 2018. The public comment period was extended for an additional 15 days and ended on November 30, 2018.

On August 23, 2019, the BLM published a NOA for the Proposed RMPs/Final EIS, initiating a 30-day protest period, a 60-day Governor's consistency review, and 60-day public comment period for certain recreational shooting closures under the John D. Dingell, Jr. Conservation, Management, and Recreation Act of 2019. During the initial protest period for the Proposed RMPs, the BLM became aware of a portion of public comments submitted on the Draft EIS that were not incorporated into the Proposed RMPs/Final EIS. The BLM updated the Proposed RMPs/EIS and issued a notice of error in the Federal Register on October 18, 2019, which re-opened public protest period for an additional 30 days. In total, the BLM received 431 protest submissions. All protests were resolved prior to the issuance of the RODs. For a full description of the issues raised during the protest period and how they were addressed, please refer to the BLM Protest Resolution Report, which is available online at https://www.blm.gov/programs/planning-and-nepa/public-participation/protest-resolution-reports. The Governor of Utah reviewed the Proposed RMPs/Final EIS to identify inconsistencies with State or local plans, policies, or programs; the BLM addressed the Governor's input in the RODs/Approved RMPs. As a result of internal review, the protest period, target shooting comment period, government-to-government consultation, Section 106 (NHPA) and Section 7 (ESA) consultation, and Governor's consistency review, the BLM made minor modifications to the Approved RMPs to clarify management actions. All changes are described in the Modifications and Clarifications (Sections 3.1.2) of the GSENM and KEPA RODs, respectively.

Authority: 40 CFR 1506.6 40 CFR 1506.10 and 43 CFR 1610.2.

Casey Hammond,
Acting Assistant Secretary, Land and Minerals Management.

[FR Doc. 2020-03395 Filed 2-19-20; 8:45 am]

BILLING CODE P